DEPARTMENT OF LABOR

Mine Safety and Health Administration

Proposed Information Collection Request Submitted for Public Comment and Recommendations; Safety Defects, Examination, Correction, and Records

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed.

DATES: Submit comments on or before May 18, 2004.

ADDRESSES: Send comments to Darrin King, Chief, Records Management Branch, 1100 Wilson Boulevard, Room 2139, Arlington, VA 22209-3939. Commenters are encouraged to send their comments on a computer disk, or via Internet e-mail to king.darrin@dol.gov, along with an original printed copy. Mr. King can be reached at (202) 693-9838 (voice), or (703) 693-9801 (facsimile).

FOR FURTHER INFORMATION CONTACT: The proposed information collection request may be viewed on the Internet by accessing the MSHA Home page (http://www.msha.gov) and selecting Statutory and Regulatory Information then Paperwork Reduction Act submission (http://www.msha.gov/regspwork.htm), or by contacting Darrin King, Records Management Branch, U.S. Department of Labor, Mine Safety and Health Administration, Room 2139, 1100 Wilson Boulevard, Arlington, VA 22209-3939. Mr. King can be reached at king.darrin@dol.gov (Internet e-mail), (703) 693-9838 (voice), or (703) 693-9801 (facsimile).

SUPPLEMENTARY INFORMATION:

I. Background

Title 30 CFR 56.13015 and 57.13015 require that compressed-air receivers and other unfired pressure vessels be inspected by inspectors holding a valid National Board Commission and in accordance with the applicable chapters of the National Board Inspection Code, a manual for Boiler and Pressure Vessels Inspectors, 1979.

Title 30 CFR 56.13030 and 57.13030 require that fired pressure vessels (boilers) be equipped with safety devices approved by the American Society of Mechanical Engineers (ASME) to protect against hazards from overpressure, flameouts, fuel interruptions and low water level. 56/57.13030 requires that records of inspections and repairs be retained by the mine operator in accordance with the requirements of the ASME Boiler and Pressure Vessel Code and the National Board Inspection Code (progressive records—no limit on retention time) and made available to the Secretary or his/her authorized representative.

Title 30 CFR 56.14100 and 57.14100 require equipment operators to inspect equipment, machinery, and tools that are to be used during a shift for safety defects before the equipment is placed in operation. Defects affecting safety are required to be corrected in a timely manner. In instances where the defect makes continued operation of the equipment unsafe, the standards require removal from service, tagging to identify that it is out of use, and repair before use is resumed.

Title 30 CFR 56.18002 and 57.18002 require that a competent person designated by the operator shall examine each working place at least once each shift for conditions which may adversely affect safety or health. A record that such examinations were conducted shall be kept by the operator for a period of one year, and shall be made available for review by the Secretary or his/her authorized representative.

II. Desired Focus of Comments

Currently, the Mine Safety and Health Administration (MSHA) is soliciting comments concerning the proposed extension of the information collection related to the Safety Defects, Examination, Correction, and Records. MSHA is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

The proposed information collection request may be viewed on the Internet by accessing the MSHA home page (http://www.msha.gov), selecting “Statutory and Regulatory Information,” then “Paperwork Reduction Act Submission,” or by contacting the person listed in the FOR FURTHER INFORMATION CONTACT section of this notice for a hard copy of this request.

III. Current Actions

Inspection records denote any hazards that were discovered and how the hazards or unsafe conditions were abated. Federal inspectors use the records to ensure that unsafe conditions are identified early and corrected.

Currently, the Mine Safety and Health Administration (MSHA) is soliciting comments concerning the proposed extension of the information collection related to the Safety Defects, Examination, Correction, and Records.

Type of Review: Extension.

Agency: Mine Safety and Health Administration.

Title: Safety Defects; Examination, Correction and Records.

OMB Number: 1219-0089.

Number of Respondents: 12,163.

Cite/Reference | Annual responses | Frequency | Average response time | Annual burden hours
30 CFR 56/57.13015 | 3,238 | Annually | 0.17 | 540
30 CFR 56/57.13030 | 488 | Annually | 0.17 | 81
30 CFR 56/57.14100 | 8,999,857 | Per shift | 0.08 | 719,989
30 CFR 56/57.18002 | 2,438,987 | Per shift | 0.20 | 487,797
Grand Total: | 11,442,570 |  |  | 1,208,407

Total Burden Cost (Operating/Maintaining): $0.

Comments submitted in response to this notice will be summarized and/or included in the request for Office of Management and Budget approval of the information collection request; they will also become a matter of public record.

Dated in Arlington, Virginia, this 12th day of March, 2004.
David L. Meyer,
Director, Office of Administration and Management.

[FR Doc. 04-6179 Filed 3-18-04; 8:45 am]

BILLING CODE 4510-43-P